DEPARTMENT OF TRANSPORTATION

Federal Aviation Administration

14 CFR Part 71

[Docket No. FAA-2024-0542; Airspace Docket No. 24-AGL-8]

RIN 2120-AA66

Amendment of Class E Airspace; Cincinnati, OH

AGENCY: Federal Aviation Administration (FAA), DOT.

ACTION: Final rule; correction.

SUMMARY: This action updates the geographic coordinates of Cincinnati Municipal Airport/Lunken Field, Cincinnati, OH, and corrects a typographic error in the final rule amending the Class D Airspace and Class E Airspace at Cincinnati, OH.

DATES: Effective 0901 UTC, September 5, 2024. The Director of the Federal Register approves this incorporation by reference action under 1 CFR part 51, subject to the annual revision of FAA Order JO 7400.11 and publication of conforming amendments.

ADDRESSES: FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register (89 FR 51960; June 21, 2024), amending the Class D and Class E airspace at Cincinnati, OH. Subsequent to publication, the FAA discovered a typographic error in the Class D and Class E airspace legal descriptions where “Notice to Missions” should be “Notice to Air Missions.” Additionally, the geographic coordinates of the Cincinnati Municipal Airport/Lunken Field were updated during the rulemaking process and require to be updated in the final rule. The geographic coordinates “(Lat. 39°06′12″ N, long. 84°25′07″ W)” should be updated to “(Lat. 39°06′11″ N, long. 84°25′03″ W).” This action does not change the airspace dimensions or operating requirements.

Correction to Final Rule

Accordingly, pursuant to the authority delegated to me, the Amendment of Class D and Class E Airspace; Cincinnati, OH, published in the Federal Register on June 21, 2024 (89 FR 51960), is corrected as follows:

§ 71.1 [Amended]

On page 51961, in column 2, under the heading “AGL OH D Cincinnati, OH [Amended]”, revise the geographic coordinates for Cincinnati Municipal Airport/Lunken Field, OH to read “(Lat. 39°06′11″ N, long. 84°25′03″ W)”.

On page 51961, in column 3, above the first row of asterisks, revised the text to read, “airspace area. This Class D airspace area is effective during the specific dates and times established in advance by Notice to Air Missions. The effective dates and times will thereafter be continuously published in the Chart Supplement.”

On page 51961, in column 3, under the heading “AGL OH E2 Cincinnati, OH [Amended]”, revise the text to read:

Cincinnati Municipal Airport/Lunken Field, OH

(Lat. 39°06′11″ N, long. 84°25′03″ W)

That airspace within a 4.2-mile radius of the Cincinnati Municipal Airport/Lunken Field; and within 2 miles each side of the 024° bearing from the airport extending from the 4.2-mile radius to 5.9 miles northeast of the airport; and within 2 miles northwest and 1.7 miles southeast of the 064° bearing from the airport extending from the 4.2-mile radius to 5.3 miles northeast of the airport; and within 2.1 miles each side of the 204° bearing from the airport extending from the 4.2-mile radius to 6.2 miles southwest of the airport; and within 2 miles northwest and 1.7 miles southeast of the 244° bearing from the airport extending from the 4.2-mile radius to 5.2 miles southwest of the airport excluding that airspace within the Covington, KY, Class B airspace area. This Class E airspace area is effective during the specific dates and times established in advance by Notice to Air Missions. The effective dates and times will thereafter be continuously published in the Chart Supplement.

Issued in Fort Worth, Texas, on July 24, 2024.
Martin A. Skinner,
Acting Manager, Operations Support Group, ATO Central Service Center.

[FR Doc. 2024-16658 Filed 8-12-24; 8:45 am]

BILLING CODE 4910-13-P